NEIGHBORHOOD REINVESTMENT CORPORATION

Sunshine Act Meeting; Regular Board of Directors Meeting

Time and Date: 3 p.m., Monday, March 28, 2005.

Place: Neighborhood Reinvestment Corporation, 1325 G Street NW., Suite 800, Boardroom, Washington, DC 20005.

Status: Open.

Contact Person for More Information: Jeffrey T. Bryson, General Counsel/Secretary, 202-220-2372; jbryson@nw.org.

Agenda:

I. Call to Order.

II. Approval of Minutes: December 6, 2004 Regular Meeting.

III. Corporate Administration Committee.

A. Meeting—1/19/05.

B. Meeting—2/03/05 teleconference.

C. Meeting—3/15/05.

IV. Audit Committee Meeting—1/31/05.

V. Finance and Budget Committee Meeting—1/11/05.

VI. Corporate Fundraising Committee Meeting—1/24/05.

VII. Treasurer's Report.

VIII. CEO Quarterly Management Report.

IX. Adjournment.

Jeffrey T. Bryson,
General Counsel/Secretary.

[FR Doc. 05-5981 Filed 3-15-05; 3:02 pm]

BILLING CODE 7570-01-M